DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than January 27, 2014.

Interested persons are invited to submit written comments regarding the subject matter of the investigations to the Director, Office of Trade Adjustment Assistance, at the address shown below, not later than January 27, 2014.

The petitions filed in this case are available for inspection at the Office of the Director, Office of Trade Adjustment Assistance, Employment and Training Administration, U.S. Department of Labor, Room N-5428, 200 Constitution Avenue NW., Washington, DC 20210.

Signed at Washington, DC, this 2nd day of January 2014.
Michael W. Jaffe,
Certifying Officer, Office of Trade Adjustment Assistance.

Appendix

43 TAA Petitions Instituted Between 12/16/13 and 12/27/13
TA-W | Subject firm (petitioners) | Location | Date of institution | Date of petition
83295 | Lincoln Paper and Tissue LLC (Company) | Lincoln, ME | 12/16/13 | 12/16/13
83296 | Berry Plastics Corporation (State/One-Stop) | Alsip, IL | 12/16/13 | 12/13/13
83297 | Convergys (Company) | Ogden, UT | 12/16/13 | 12/13/13
83298 | Vantiv LLC (State/One-Stop) | Symmes Township, OH | 12/16/13 | 12/13/13
83299 | Transwitch Corporation (State/One-Stop) | Shelton, CT | 12/16/13 | 12/13/13
83300 | Fulton Industries, Inc. (Company) | Rochester, IN | 12/17/13 | 12/16/13
83301 | UnitedHealthcare (Company) | Hooksett, NH | 12/17/13 | 12/09/13
83302 | American Bridge Manufacturing (Workers) | Coraopolis, PA | 12/17/13 | 12/09/13
83303 | Amphenol (State/One-Stop) | Endicott, NY | 12/18/13 | 12/17/13
83304 | Cmed Inc. (Workers) | New Providence, NJ | 12/18/13 | 12/11/13
83305 | Merastar (Kemper Preferred) (Workers) | Dewitt, NY | 12/18/13 | 12/13/13
83306 | New United Motor Manufacturing, Inc. (NUMMI) (State/One-Stop) | Newark, CA | 12/18/13 | 12/17/13
83307 | Veeco Instrument Inc. (MOCVD Systems) (State/One-Stop) | Somerset, NJ | 12/18/13 | 12/17/13
83308 | Bomag Americas (Union) | Kewanee, IL | 12/19/13 | 12/16/13
83309 | Southern California Edison (Workers) | Irwindale, CA | 12/19/13 | 12/18/13
83310 | Matric Limited (State/One-Stop) | Seneca, PA | 12/19/13 | 12/18/13
83311 | Worthington Industries, Inc. (State/One-Stop) | Baltimore, MD | 12/19/13 | 12/18/13
83312 | Eaton/Cooper Power Systems (State/One-Stop) | Olean, NY | 12/19/13 | 12/18/13
83313 | SuperMedia (State/One-Stop) | Albany, NY | 12/20/13 | 12/19/13
83314 | McFarlane DBA IndusPac Pacific Foam (State/One-Stop) | Ontario, CA | 12/20/13 | 12/19/13
83315 | Unisys Corporation (Workers) | Blue Bell, PA | 12/20/13 | 12/19/13
83316 | HBC Solutions Inc. (Workers) | Limerick, PA | 12/20/13 | 12/20/13
83317 | Wind Clean Corporation (State/One-Stop) | Coleman, TX | 12/20/13 | 12/19/13
83318 | Trinity Structural Towers, Inc. (State/One-Stop) | Coleman, TX | 12/20/13 | 12/19/13
83319 | Viatech Publishing (State/One-Stop) | Springfield, MO | 12/23/13 | 12/20/13
83320 | FIS (State/One-Stop) | Milwaukee, WI | 12/23/13 | 12/20/13
83321 | Los Alamos Technical Associates-Environmental Services of KY (Union) | Kevil, KY | 12/23/13 | 12/20/13
83322 | Sandoz (A subsidiary of Novartis) (Workers) | Princeton, NJ | 12/23/13 | 12/20/13
83323 | Dell (Company) | Austin, TX | 12/23/13 | 12/19/13
83324 | ING (State/One-Stop) | Minneapolis, MN | 12/23/13 | 12/19/13
83325 | Broadwind Towers, Inc. (State/One-Stop) | Abilene, TX | 12/24/13 | 12/20/13
83326 | Advance Tabco (State/One-Stop) | Edgewood, NY | 12/24/13 | 12/20/13
83327 | Miller Compressing Company (State/One-Stop) | Milwaukee, WI | 12/24/13 | 12/20/13
83328 | General Electric Company, GE Transportation (Union) | Erie, PA | 12/24/13 | 12/20/13
83329 | Elkay (State/One-Stop) | Broadview, IL | 12/24/13 | 12/23/13
83330 | Just Manufacturing (State/One-Stop) | Franklin Park, IL | 12/24/13 | 12/23/13
83331 | Trinity Structural Towers, Inc. (State/One-Stop) | Clinton, IL | 12/26/13 | 12/26/13
83332 | Engineered Products Industries, LLC (State/One-Stop) | St. Clair, MO | 12/26/13 | 12/24/13
83333 | Katana Summit, LLC (State/One-Stop) | Columbus, NE | 12/26/13 | 12/23/13
83334 | IBM (State/One-Stop) | Essex Junction, VT | 12/26/13 | 12/24/13
83335 | UBS (State/One-Stop) | Jersey City, NJ | 12/27/13 | 12/26/13
83336 | Travelplan USA, Inc. (State/One-Stop) | Jamaica, NY | 12/27/13 | 12/26/13
83337 | Aon Hewitt (State/One-Stop) | Lincolnshire, IL | 12/27/13 | 12/26/13

[FR Doc. 2014-00679 Filed 1-15-14; 8:45 am]

BILLING CODE 4510-FN-P